ENVIRONMENTAL PROTECTION AGENCY

40 CFR Part 52

[EPA-R09-OAR-2023-0448; FRL-11677-02-R9]

Approval and Promulgation of Implementation Plans; State of California; Coachella Valley; Extreme Attainment Plan for 1997 8-Hour Ozone Standards

AGENCY: Environmental Protection Agency (EPA).

ACTION: Final rule.

SUMMARY: The Environmental Protection Agency (EPA) is taking final action to approve elements of a state implementation plan (SIP) submittal from the State of California to meet Clean Air Act (CAA) Extreme area requirements for the 1997 8-hour ozone national ambient air quality standards (NAAQS) in the Riverside Co. (Coachella Valley), CA nonattainment area (“Coachella Valley”). We are specifically approving the reasonably available control measures (RACM) demonstration and attainment demonstration and finding the State has satisfied the clean fuels for boilers requirement. The EPA previously proposed to approve these elements in conjunction with a proposal to approve the vehicle miles traveled (VMT) offset demonstration and the reasonable further progress (RFP) demonstration for the Coachella Valley. The EPA intends to take final action on the area's VMT offset demonstration and RFP demonstration in a future rulemaking.

DATES: This rule is effective July 12, 2024.

ADDRESSES: The EPA has established a docket for this action under Docket ID No. EPA-R09-OAR-2023-0448. All documents in the docket are listed on the https://www.regulations.gov website. Although listed in the index, some information is not publicly available, e.g., Confidential Business Information (CBI) or other information whose disclosure is restricted by statute. Certain other material, such as copyrighted material, is not placed on the internet and will be publicly available only in hard copy form. Publicly available docket materials are available through https://www.regulations.gov, or please contact the person identified in the FOR FURTHER INFORMATION CONTACT section for additional availability information. If you need assistance in a language other than English or if you are a person with a disability who needs a reasonable accommodation at no cost to you, please contact the person identified in the FOR FURTHER INFORMATION CONTACT section.

FOR FURTHER INFORMATION CONTACT: Tom Kelly, Geographic Strategies and Modeling Section (AIR-2-2), EPA Region IX, 75 Hawthorne Street, San Francisco, CA 94105; phone: (415) 972-3856; or email: kelly.thomasp@epa.gov.

SUPPLEMENTARY INFORMATION: Throughout this document, “we,” “us,” and “our” refer to the EPA.

Table of Contents

I. Proposed Action

II. Public Comments and the EPA's Responses

III. Environmental Justice Considerations

IV. The EPA's Action

V. Statutory and Executive Order Reviews

I. Proposed Action

On April 16, 2024,¹ the EPA proposed to approve portions of the “Final Coachella Valley Extreme Area Plan for the 1997 8-Hour Ozone Standard,” dated December 2020 (“Coachella Valley Ozone Plan” or “Plan”), into the California SIP, along with the entirety of a second submittal, the “VMT Offset Demonstration.” ² For the Coachella Valley Ozone Plan, we proposed to approve all elements of the Plan except the reasonably available control technology demonstration, which we planned to address in subsequent proposal. Our proposed action contains more information on the two submittals and our evaluation.

¹ 89 FR 26817.

² California Air Resources Board, “Staff Report, 2020 Coachella Valley Vehicle Miles Traveled Emissions Offset Demonstration,” January 22, 2021.

II. Public Comments and the EPA's Responses

The EPA's proposed action provided a 30-day public comment period. During this period, we received comments from Air Law for All (ALFA). These comments addressed the EPA's proposed approval of the Coachella Valley Ozone Plan's RFP demonstration and other issues related to nonattainment planning elements not addressed in the EPA's proposal. No adverse comments were directed at the EPA's proposal to approve the Plan's RACM demonstration, attainment demonstration, or the EPA's proposed finding that the State has satisfied the clean fuels or advanced control technology for boilers requirement. In this action, the EPA is taking final action only on these elements of the Coachella Valley Ozone Plan for which we received no adverse comment. The EPA intends to address our proposed approval of the Plan's RFP demonstration and the separately submitted VMT Offset Demonstration in a future rulemaking.

III. Environmental Justice Considerations

This final action will generally be neutral or not contribute to a reduction in adverse environmental and health impacts on all populations in the Coachella Valley, including people of color and low-income populations in the area. At a minimum, the approved action would not worsen any existing air quality and is expected to ensure the area is meeting requirements to attain air quality standards. Further, there is no information in the record indicating that this action is expected to have disproportionately high or adverse human health or environmental effects on a particular group of people. In responding to public concerns about environmental justice in Eastern Coachella Valley, the South Coast Air Quality Management District (SCAQMD) noted that (1) Assembly Bill 617 funding has reduced pollutant emissions in Eastern Coachella Valley by 63.1 tpy of nitrogen oxides (NOX), 7.5 tpy of Volatile Organic Compounds (VOC), and 5.3 tpy of diesel particulate matter,³ and (2) the SCAQMD has provided $966,667 in energy efficiency upgrades, reducing energy costs for homes within designated environmental justice areas of Indio and Eastern Coachella Valley.⁴ The SCAQMD Final 2016 Air Quality Management Plan, which included additional information for the Coachella Valley Ozone Plan such as more detailed information regarding emissions inventory development, also identifies an Environmental Justice Advisory Group established to “advise and assist SCAQMD in protecting and improving public health in SCAQMD's most impacted communities through the reduction and prevention of air pollution.” ⁵

³ Coachella Valley Ozone Plan, p. 9-8. SCAQMD's website identifies Assembly Bill 617 Community Air Initiatives as “community based efforts that focus on improving air quality and public health in environmental justice communities.” See https://www.aqmd.gov/nav/about/initiatives/environmental-justice/ab617-134.

⁴ Id.

⁵ SCAQMD, “Final 2016 Air Quality Management Plan,” dated March 2017, submitted electronically by CARB to the EPA on April 27, 2017, p. 9-7.

IV. The EPA's Action

Pursuant to section 110(k)(3) of the CAA, and for the reasons provided in our April 16, 2024 proposed rule, the EPA is taking final action to approve into the California SIP the following elements of the “Final Coachella Valley Extreme Area Plan for the 1997 8-Hour Ozone Standard,” dated December 2020 under CAA section 110(k)(3):

• The RACM demonstration as meeting the requirements of CAA section 172(c)(1) and 40 CFR 51.1105(a)(1) and 51.1100(o)(17); and

• The attainment demonstration as meeting the requirements of CAA section 182(c)(2)(A) and 40 CFR 51.1105(a)(1) and 51.1100(o)(12).

We are also finalizing our proposal to find that the State has satisfied the clean fuel or advanced control technology for boilers requirement in CAA section 182(e)(3) for the Coachella Valley for the 1997 ozone NAAQS.

These requirements and related parts of the SIP submittal were evaluated separately from the RFP demonstration and the substitution of NOX emissions reductions for VOC emissions reductions in the EPA's April 16, 2024 notice of proposed rulemaking.

V. Statutory and Executive Order Reviews

Under the Clean Air Act, the Administrator is required to approve a SIP submission that complies with the provisions of the Act and applicable Federal regulations. 42 U.S.C. 7410(k); 40 CFR 52.02(a). Thus, in reviewing SIP submissions, the EPA's role is to approve State choices, provided that they meet the criteria of the Clean Air Act. Accordingly, this action merely approves State law as meeting Federal requirements and does not impose additional requirements beyond those imposed by State law. For that reason, this action:

• Is not a “significant regulatory action” subject to review by the Office of Management and Budget under Executive Orders 12866 (58 FR 51735, October 4, 1993) and 14094 (88 FR 21879, April 11, 2023);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not subject to Executive Order 13045 (62 FR 19885, April 23, 1997) because it approves a State program;

• Is not a significant regulatory action subject to Executive Order 13211 (66 FR 28355, May 22, 2001); and

• Is not subject to requirements of Section 12(d) of the National Technology Transfer and Advancement Act of 1995 (15 U.S.C. 272 note) because applications of those requirements would be inconsistent with the Clean Air Act.

In addition, the SIP is not approved to apply on any Indian reservation land or in any other area where the EPA or an Indian tribe has demonstrated that a tribe has jurisdiction. In those areas of Indian country, the rule does not have tribal implications and will not impose substantial direct costs on tribal governments or preempt tribal law as specified by Executive Order 13175 (65 FR 67249, November 9, 2000).

Executive Order 12898 (Federal Actions To Address Environmental Justice in Minority Populations and Low-Income Populations, 59 FR 7629, February. 16, 1994) directs Federal agencies to identify and address “disproportionately high and adverse human health or environmental effects” of their actions on minority populations and low-income populations to the greatest extent practicable and permitted by law. The EPA defines environmental justice (EJ) as “the fair treatment and meaningful involvement of all people regardless of race, color, national origin, or income with respect to the development, implementation, and enforcement of environmental laws, regulations, and policies.” The EPA further defines the term fair treatment to mean that “no group of people should bear a disproportionate burden of environmental harms and risks, including those resulting from the negative environmental consequences of industrial, governmental, and commercial operations or programs and policies.”

The State did not evaluate EJ considerations as part of its SIP submittal; the CAA and applicable implementing regulations neither prohibit nor require such an evaluation. However, as described in section III (Environmental Justice Considerations) of this document, the District has an advisory group to address EJ and has taken prior EJ-focused actions within the Coachella Valley. The EPA did not perform an EJ analysis and did not consider it in this action. Due to the nature of this action, this action is expected to have a neutral to positive impact on the air quality of Coachella Valley. Consideration of EJ is not required as part of this action, and there is no information in the record inconsistent with the stated goal of Executive Order 12898, to achieve environmental justice for people of color, low-income populations, and Indigenous peoples.

This action is subject to the Congressional Review Act, and the EPA will submit a rule report to each House of the Congress and to the Comptroller General of the United States. This action is not a “major rule” as defined by 5 U.S.C. 804(2).

Under section 307(b)(1) of the Clean Air Act, petitions for judicial review of this action must be filed in the United States Court of Appeals for the appropriate circuit by August 12, 2024. Filing a petition for reconsideration by the Administrator of this final rule does not affect the finality of this action for the purposes of judicial review nor does it extend the time within which a petition for judicial review may be filed and shall not postpone the effectiveness of such rule or action. This action may not be challenged later in proceedings to enforce its requirements. (See section 307(b)(2)).

List of Subjects in 40 CFR Part 52

Environmental protection, Air pollution control, Incorporation by reference, Intergovernmental relations, Nitrogen oxides, Ozone, Volatile organic compounds, and Reporting and recordkeeping requirements.

Dated: June 6, 2024.
Martha Guzman Aceves,
Regional Administrator, Region IX.

Part 52, chapter I, title 40 of the Code of Federal Regulations is amended as follows:

PART 52—APPROVAL AND PROMULGATION OF IMPLEMENTATION PLANS

1. The authority citation for part 52 continues to read as follows:

Authority: 42 U.S.C. 7401 et seq.

Subpart F—California

2. Section 52.220 is amended by adding and reserving paragraph (c)(613), and adding paragraph (c)(614) to read as follows:

§ 52.220 Identification of plan—in part.

* * * * *

(c) * * *

(613) [Reserved]

(614) The following plan was submitted electronically on December 29, 2020, by the Governor's designee as an attachment to a letter dated December 28, 2020.

(i) [Reserved]

(ii) Additional materials.

(A) South Coast Air Quality Management District.

(1) “South Coast Air Quality Management District, Final Coachella Valley Extreme Area Plan for the 1997 8-Hour Ozone Standard,” dated December 2020, except for the sections titled “Reasonable Further Progress” and “Supplemental RACT Demonstration,” pages 6-1 through 6-11.

(2) [Reserved]

* * * * *

[FR Doc. 2024-12786 Filed 6-11-24; 8:45 am]

BILLING CODE 6560-50-P